FEDERAL COMMUNICATIONS COMMISSION

47 CFR Part 20

[CC Docket No. 94-102; FCC 03-242]

Ensure Compatibility With Enhanced 911 Emergency Calling Systems

AGENCY: Federal Communications Commission.

ACTION: Clarification.

SUMMARY: In this document, the Commission denies in part, and grants in part, a Petition from OnStar Corporation (OnStar). The action is necessary to clarify that OnStar telematics units that provide a Commercial Mobile Radio Service (CMRS) personal calling service are handsets or mobile phones in accordance with part 20 of the Commission's rules. The Commission also grants a temporary, conditional waiver of its E911 Phase II rules, including the equipment activation requirements, as they apply to wireless licensees that furnish the underlying wireless service for OnStar analog and first generation digital telematics units installed in OnStar equipped vehicles prior to December 31, 2005. The waiver allows OnStar and its wireless carrier partners a reasonable period to continue their cooperative effort to adjust the performance of OnStar's digital equipment.

FOR FURTHER INFORMATION CONTACT: David Siehl at (202) 418-1310.

SUPPLEMENTARY INFORMATION: This is a summary of the Order released on October 21, 2003. The complete text of the Order is available for public inspection and copying during regular business hours at the FCC Reference Information Center, Portals II, 445 12th Street, SW., Room CY-A257, Washington, DC, 20554. The Order may also be purchased from the Commission's duplicating contractor, Qualex International, Portals II, 445 12th Street, SW., Room CY-B402, Washington, DC, 20554, telephone 202-863-2893, facsimile 202-863-2989, or via e-mail qualexint@aol.com.

Synopsis of the Order

1. OnStar's provision of telematics services combines wireless communications, autonomous geographic positioning system (GPS) capability, and voice recognition technology that are integrated into automobiles' electrical architecture. OnStar telematics units cannot be removed from vehicles.

2. On December 3, 2002, OnStar filed its Petition seeking clarification. The Commission's Wireless Telecommunications Bureau (Wireless Bureau) released a Public Notice, 68 FR 2252 (January 16, 2003), seeking comment on the Petition.

3. The Order finds that telematics units provided by OnStar that are not capable of providing wireless calling service are not within the definition of § 20.3, and therefore, not subject to the E911 requirements of § 20.18(g) of the Commission's rules. On the other hand, although OnStar telematics units do not have the appearance of “traditional” portable handsets, some units are also capable of providing a commercial mobile radio service (CMRS) in addition to telematics services. 911 calls may be made from them over the underlying CMRS network of the carrier licensees, with whom OnStar has reached agreements to provide that wireless service. Their capability to function as mobile phones and to provide commercial wireless service through a licensee qualifies them as mobile phones within the definition § 20.3 and, thus, within the scope of the E911 requirements pursuant to § 20.18(g) of the Commission's rules.

4. The Order further determines that licensees who provide CMRS service in accordance with § 20.18 have a responsibility in terms of the requirements of that section with respect to OnStar telematics units that are capable of providing CMRS.

5. The Order concludes that the circumstances regarding OnStar's telematics units that provide commercial calling service warrant granting a waiver to (1) cover carriers who currently providing underlying wireless service to OnStar, and (2) its prospective wireless partners with whom it is attempting to work out arrangements as it migrates from analog to digital based equipment and service. Grant of a waiver of the E911 Phase II rules serves to clarify the obligations of CMRS licensees by resolving that OnStar telematics units that provide CMRS do not have to be included in the count for the equipment activation requirements under § 20.18(g) prior to December 31, 2005. The grant of the waiver is conditioned on the determinations the Commission makes on the larger telematics issues in its Further Notice of Proposed Rulemaking, 68 FR 3214 (January 23, 2003), proceeding in the same docket, CC Docket No. 94-102.

Ordering Clauses

6. It is ordered that, pursuant to section 4(i) of the Communications Act of 1934, as amended, 47 U.S.C. 154(i), 303(r), and §§ 0.131, 0.331, 1.3, of the Commission's rules, 47 CFR 0.131, 0.331, 1.3, the Petition for Ruling filed by OnStar Corporation on December 3, 2002 is denied in part and granted in part.

7. It is further ordered that, pursuant to section 4(i) of the Communications Act of 1934, as amended, 47 U.S.C. 154(i), 303(r), and §§ 0.131, 0.331, 1.3, of the Commission's rules, 47 CFR 0.131, 0.331, 1.3, a waiver of the Commission's E911 Phase II rules pursuant to part 20 of the Commission's rules is granted to wireless licensees with respect to OnStar Corporation's telematics equipment that is capable of providing a commercial wireless service, as described, and subject to the conditions set forth, herein.

8. It is further ordered that this waiver is granted until December 31, 2005, unless otherwise modified by the Commission.

Federal Communications Commission.
Marlene H. Dortch,
Secretary.

[FR Doc. 03-31105 Filed 12-16-03; 8:45 am]

BILLING CODE 6712-01-P